INTERNATIONAL TRADE COMMISSION

[USITC SE02010]

Sunshine Act Meeting

Agency Holding the Meeting: United States International Trade Commission.

Time and Date: April 18, 2002 at 2 p.m.

Place: Room 101, 500 E Street SW., Washington, DC 20436, Telephone: (202) 205-2000.

Status: Open to the public.

Matters to be Considered:

1. Agenda for future meeting: None.

2. Minutes.

3. Ratification List.

4. In. No. 731-TA-991 (Preliminary) (Silicon Metal from Russia)—briefing and vote. (The Commission is currently scheduled to transmit its determination to the Secretary of Commerce on or before April 22, 2002; Commissioners' opinions are currently scheduled to be transmitted to the Secretary of Commerce on or before April 29, 2002.)

5. Outstanding action jackets: None.

In accordance with Commission policy, subject matter listed above, not disposed of at the scheduled meeting, may be carried over to the agenda of the following meeting.

Dated: Issued: April 11, 2002.
By order of the Commission.
Marilyn R. Abbott,
Secretary.

[FR Doc. 02-9372 Filed 4-12-02; 3:18 pm]

BILLING CODE 7020-02-M